SMALL BUSINESS ADMINISTRATION

[Disaster Declaration # 13907 and # 13908]

Georgia Disaster Number GA-00058

AGENCY: U.S. Small Business Administration.

ACTION: Amendment 3.

SUMMARY: This is an amendment of the Presidential declaration of a major disaster for Public Assistance Only for the State of

Georgia (FEMA—4165—DR), dated 03/06/2014.

Incident: Severe Winter Storm.

Incident Period: 02/10/2014 through 02/14/2014.

Effective Date: 04/24/2014.

Physical Loan Application Deadline Date: 05/05/2014.

Economic Injury (EIDL) Loan Application Deadline Date: 12/08/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of GEORGIA, dated 03/06/2014, is hereby amended to include the following areas as adversely affected by the disaster.

Primary Counties: Madison.

All other information in the original declaration remains unchanged.

(Catalog of Federal Domestic Assistance Numbers 59002 and 59008)

Joseph P. Loddo,
Acting Associate Administrator for Disaster Assistance.

[FR Doc. 2014-10076 Filed 5-1-14; 8:45 am]

BILLING CODE 8025-01-P